DEPARTMENT OF THE INTERIOR

National Park Service

[NPS-WASO-NAGPRA-10557; 2200-1100-665]

Notice of Inventory Completion: Field Museum of Natural History, Chicago, IL; Correction

AGENCY: National Park Service, Interior.

ACTION: Notice; correction.

Notice is here given in accordance with the Native American Graves Protection and Repatriation Act (NAGPRA), 25 U.S.C. 3003, of the completion of an inventory of human remains and associated funerary objects in the possession of the Field Museum of Natural History in Chicago, IL (Field Museum). The human remains and associated funerary objects were removed from Fresno, Kings, and Madera Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the total minimum number of individuals previously published in a Notice of Inventory Completion in the Federal Register (76 FR 80393-80394, December 23, 2011). Following publication of the notice, the Field Museum staff re-examined the human remains and associated funerary objects removed from Fresno, Kings, and Madera Counties, CA, and is reducing the minimum number of individuals removed from Fresno County from six to four. Field Museum staff also assigned an official catalog number (42709.1) to one of the associated funerary objects, the abalone shell.

In the Federal Register (76 FR 80393-80394, December 23, 2011), paragraph seven is corrected by substituting the following paragraph:

In March 1901, human remains representing, at minimum, four individuals (catalog numbers 42707- 42709, 42713) were removed from unknown locations in Squaw Valley, near Sanger in Fresno County, CA, by John Hudson. No known individuals were identified. The two associated funerary objects are a broken child's basket (catalog number 70830) and an abalone shell (catalog number 42709.1) comprised of one larger piece of shell and its fragments.

In the Federal Register (76 FR 80393-80394, December 23, 2011), paragraph ten is corrected by substituting the following paragraph:

Officials of the Field Museum have determined that:

• Pursuant to 25 U.S.C. 3001(9), the human remains described above represent the physical remains of seven individuals of Native American ancestry.

Additional Requestor and Disposition

Representatives of any other Indian tribe that believes itself to be culturally affiliated with the human remains and associated funerary objects should contact Helen Robbins, Repatriation Director, Field Museum of Natural History, 1400 South Lake Shore Drive, Chicago, IL, 60605-2496, telephone (312) 665-7317, before August 2, 2012. Repatriation of the human remains and associated funerary objects to the Picayune Rancheria of Chukchansi Indians of California; Santa Rosa Indian Community of the Santa Rosa Rancheria, California; Table Mountain Rancheria of California; and the Tule River Indian Tribe of the Tule River Reservation, California, may proceed after that date if no additional claimants come forward.

The Field Museum is responsible for notifying the Picayune Rancheria of Chukchansi Indians of California; Santa Rosa Indian Community of the Santa Rosa Rancheria, California; Table Mountain Rancheria of California; and the Tule River Indian Tribe of the Tule River Reservation, California, that this notice has been published.

Dated: June 11, 2012.
David Tarler,
Acting Manager, National NAGPRA Program.

[FR Doc. 2012-16207 Filed 7-2-12; 8:45 am]

BILLING CODE 4312-50-P